DEPARTMENT OF COMMERCE

International Trade Administration

[A-580-880; A-201-847; A-489-824]

Heavy Walled Rectangular Welded Carbon Steel Pipes and Tubes From the Republic of Korea, Mexico, and the Republic of Turkey: Final Results of the Expedited First Sunset Reviews of the Antidumping Duty Orders

AGENCY: Enforcement and Compliance, International Trade Administration, Department of Commerce.

SUMMARY: As a result of these expedited sunset reviews, the Department of Commerce (Commerce) finds that revocation of the antidumping duty (AD) orders on heavy walled rectangular welded carbon steel pipes and tubes (HWR pipes and tubes) from the Republic of Korea (Korea), Mexico, and the Republic of Turkey (Turkey) would be likely to lead to the continuation or recurrence of dumping at the levels indicated in the “Final Results of Review” section of this notice.

DATES: Applicable November 30, 2021.

FOR FURTHER INFORMATION CONTACT: Samantha Kinney or Kate Johnson, AD/CVD Operations, Office VIII, Enforcement and Compliance, International Trade Administration, U.S. Department of Commerce, 1401 Constitution Avenue NW, Washington, DC 20230; telephone: (202) 482-2285 or (202) 482-4929, respectively.

SUPPLEMENTARY INFORMATION:

Background

On August 2, 2021, Commerce published the notice of initiation of the first sunset reviews of the orders on certain HWR pipes and tubes from Korea, Mexico, and Turkey ¹ pursuant to section 751(c)(2) of the Tariff Act of 1930, as amended (the Act).² On August 17, 2021, Commerce received a notice of intent to participate from Atlas Tube, a division of Zekelman Industries, Bull Moose Tube Company, Maruichi American Corporation, Searing Industries, Vest, Inc., and Nucor Tubular Products Inc. (collectively, domestic interested parties) within the deadline specified in 19 CFR 351.218(d)(1)(i).³ These companies claimed interested party status under section 771(9)(C) of the Act, and 19 CFR 351.102(b)(29)(v) as domestic manufacturers or producers of HWR pipes and tubes in the United States.

¹ See Heavy Walled Rectangular Welded Carbon Steel Pipes and Tubes from the Republic of Korea, Mexico, and the Republic of Turkey: Antidumping Duty Orders, 81 FR 62865 (September 13, 2016) (Orders).

² See Initiation of Five-Year (Sunset) Reviews, 86 FR 41439 (August 2, 2021).

³ See Atlas Tube, Bull Moose Tube Company, Maruichi American Corporation, Searing Industries, and Vest Inc.'s Letters, “Notice of Intent to Participate in the First Five-Year Review of the Antidumping Duty Order on Heavy Walled Rectangular Welded Carbon Steel Pipes and Tubes from the Republic of Korea,” dated August 17, 2021; “Notice of Intent to Participate in the First Five-Year Review of the Antidumping Duty Order on Heavy Walled Rectangular Welded Carbon Steel Pipes and Tubes from Mexico,” dated August 17, 2021; “Notice of Intent to Participate in the First Five-Year Review of the Antidumping Duty Order on Heavy Walled Rectangular Welded Carbon Steel Pipes and Tubes from the Republic of Turkey,” dated August 17, 2021; see also Nucor Tubular's Letters “Heavy-Walled Rectangular Welded Carbon Steel Pipes and Tubes from the Republic of Korea: Notice of Intent to Participate,” dated August 17, 2021; “Heavy-Walled Rectangular Welded Carbon Steel Pipes and Tubes from Mexico: Notice of Intent to Participate,” dated August 17, 2021; and “Heavy-Walled Rectangular Welded Carbon Steel Pipes and Tubes from the Republic of Turkey: Notice of Intent to Participate,” dated August 17, 2021.

On September 1, 2021, Commerce received complete substantive responses from the domestic interested parties within the 30-day deadline specified in 19 CFR 351.218(d)(3).⁴ No respondent interested party submitted a substantive response within the 50-day deadline. As a result, pursuant to section 751(c)(3)(B) of the Act and 19 CFR 351.218(e)(1)(ii)(C)(2), Commerce is conducting expedited (120-day) sunset reviews of the Orders.

⁴ See Domestic Interested Parties' Letters, “First Five-Year (“Sunset”) Review of the Antidumping Order on Heavy Walled Rectangular Welded Carbon Steel Pipes and Tubes from the Republic of Korea: Domestic Interested Parties' Substantive Response to Notice of Initiation,” dated September 1, 2021; “First Five-Year (“Sunset”) Review of the Antidumping Order on Heavy Walled Rectangular Welded Carbon Steel Pipes and Tubes from Mexico: Domestic Interested Parties' Substantive Response to Notice of Initiation,” dated September 1, 2021; “First Five-Year (“Sunset”) Review of the Antidumping Order on Heavy Walled Rectangular Welded Carbon Steel Pipes and Tubes from the Republic of Turkey: Domestic Interested Parties' Substantive Response to Notice of Initiation,” dated September 1, 2021.

Scope of the Orders

The merchandise covered by the Orders is certain heavy walled rectangular welded steel pipes and tubes of rectangular (including square) cross section, having a nominal wall thickness of not less than 4 mm.

The subject merchandise is currently provided for in item 7306.61.1000 of the Harmonized Tariff Schedule of the United States (HTSUS). Subject merchandise may also enter under HTSUS 7306.61.3000. While the HTSUS subheadings and ASTM specification are provided for convenience and customs purposes, the written description of the scope of the Orders is dispositive.⁵

⁵ For a full description of the scope of the Orders, see Memorandum, “Issues and Decision Memorandum for the Final Results of the Expedited First Sunset Reviews of the Antidumping Duty Orders on Heavy Walled Rectangular Welded Carbon Steel Pipes and Tubes from the Republic of Korea, Mexico, and the Republic of Turkey,” dated concurrently with, and hereby adopted by, this notice (Issues and Decision Memorandum).

Analysis of Comments Received

All issues raised in these sunset reviews are addressed in the accompanying Issues and Decision Memorandum.⁶ The Issues and Decision Memorandum is a public document and is on file electronically via Enforcement and Compliance's Antidumping and Countervailing Duty Centralized Electronic Service System (ACCESS). ACCESS is available to registered users at https://access.trade.gov. A list of topics discussed in the Issues and Decision Memorandum is included as an appendix to this notice. A complete version of the Issues and Decision Memorandum can be accessed at https://access.trade.gov/public/FRNoticesListLayout.aspx.

⁶ See Issues and Decision Memorandum.

Final Results of Review

Pursuant to sections 751(c)(1) and 752(c)(1) and (3) of the Act, Commerce determines that revocation of the AD orders on HWR pipes and tubes from Korea, Mexico, and Turkey would be likely to lead to the continuation or recurrence of dumping, and that the magnitude of the weighted-average dumping margins likely to prevail are up to 3.82 percent for Korea, 5.21 percent for Mexico, and 35.66 percent for Turkey.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752, and 777(i)(1) of the Act and 19 CFR 351.218.

Dated: November 23, 2021.
James Maeder,
Deputy Assistant Secretary for Antidumping and Countervailing Duty Operations.

Appendix

List of Topics Discussed in the Issues and Decision Memorandum

I. Summary

II. Background

III. Scope of the Orders

IV. History of the Orders

V. Legal Framework

VI. Discussion of the Issues

1. Likelihood of Continuation or Recurrence of Dumping

2. Magnitude of the Margins Likely to Prevail

VII. Final Results of Expedited First Sunset Reviews

VIII. Recommendation

[FR Doc. 2021-26021 Filed 11-29-21; 8:45 am]

BILLING CODE 3510-DS-P